DEPARTMENT OF HOMELAND SECURITY

Coast Guard

33 CFR Part 117

[CGD01-03-044]

Drawbridge Operation Regulations: Long Island, New York Inland Waterway From East Rockaway Inlet to Shinnecock Canal, NY

AGENCY: Coast Guard, DHS.

ACTION: Notice of temporary deviation from regulations; request for comment.

SUMMARY: The Commander, First Coast Guard District, has issued a temporary deviation from the drawbridge operation regulations for the Meadowbrook State Parkway Bridge, mile 12.8, across the Sloop Channel, in New York. This temporary deviation will test a proposed change to the drawbridge operation schedule and help determine whether a permanent change to the regulations is reasonable. This temporary deviation will allow the Meadowbrook State Parkway Bridge to remain in the closed position from 9 p.m. to midnight on July 4, 2003. This temporary deviation is necessary to facilitate public safety during the annual Jones Beach, Fourth of July fireworks event.

DATES: Comments must reach the Coast Guard on or before September 5, 2003. This deviation is effective on July 4, 2003.

ADDRESSES: You may mail comments to Commander (obr), First Coast Guard District, Bridge Branch, at 408 Atlantic Avenue, Boston, MA 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Joseph Schmied, Project Officer, First Coast Guard District, at (212) 668-7195.

SUPPLEMENTARY INFORMATION:

Request for Comments

We encourage you to participate in this rulemaking by submitting comments or related material. If you do so, please include your name and address, identify the docket number for this rulemaking (CGD01-03-044), indicate the specific section of this document to which each comment applies, and give the reason for each comment. Please submit all comments and related material in an unbound format, no larger than 8½ by 11 inches, suitable for copying. If you would like to know if they reached us, please enclose a stamped, self-addressed postcard or envelope. We will consider all comments and material received during the comment period. Comments must be received by September 5, 2003.

Background and Purpose

The Meadowbrook State Parkway Bridge has a vertical clearance of 22 feet at mean high water and 25 feet at mean low water in the closed position, unlimited vertical clearance in the full open position. The existing regulations are listed at 33 CFR 117.799(h).

The bridge owner, the New York State Office of Parks, Recreation and Historic Preservation, requested that the bridge be allowed to remain closed from 9 p.m. to midnight, during the annual Fourth of July fireworks event at the Jones Beach State Park. Allowing the bridge to remain closed is expected to enhance public safety by allowing the large volume of vehicular and pedestrian traffic to safely enter and exit Jones Beach during this annual public event.

Under this temporary deviation the Meadowbrook State Parkway Bridge may remain in the closed position from 9 p.m. through midnight on July 4, 2003.

The Coast Guard coordinated this closure with the mariners who normally use this waterway to help facilitate this public event and to minimize any disruption to the marine transportation system.

This deviation from the operating regulations is authorized under 33 CFR 117.43, and comments and information gathered during the comment period will assist the Coast Guard in determining if this test operating schedule is reasonable and should be made a permanent addition to the drawbridge operation regulations.

Dated: June 13, 2003.
John L. Grenier,
Captain, U.S. Coast Guard, Acting Commander, First Coast Guard District.

[FR Doc. 03-16000 Filed 6-24-03; 8:45 am]

BILLING CODE 4910-15-P